DEPARTMENT OF TRANSPORTATION

Federal Aviation Administration

Notice of Intent to Request Renewal From the Office of Management and Budget (OMB) of Seven Current Public Collections of Information

AGENCY: Federal Aviation Administration (FAA), DOT.

ACTION: Notice.

SUMMARY: In compliance with the Paperwork Reduction Act (44 U.S.C. 3501 et seq.), the FAA invites public comment on seven currently approved public information collections which will be submitted to OMB for renewal.

DATES: Comments must be received on or before May 7, 2004.

ADDRESSES: Comments may be mailed or delivered to the FAA at the following address: Ms. Judy Street, Room 612, Federal Aviation Administration, Standards and Information Division, APF-100, 800 Independence Ave., SW., Washington, DC 20591.

FOR FURTHER INFORMATION CONTACT: Ms. Judith D. Street at the above address, on (202) 267-9895, or by e-mail at: July.Street@faa.gov.

SUPPLEMENTARY INFORMATION: In accordance with the Paperwork Reduction Act of 1995, an agency may not conduct or sponsor, and a person is not required to respond to a collection of information unless it displays a currently valid OMB control number. Therefore, the FAA solicits comments on the following current collections of information. Comments should evaluate the necessity of the collection, the accuracy of the agency's estimate of the burden, the quality, utility, and clarity of the information to be collected, and possible ways to minimize the burden of the collection.

1. 2120-0018, Certification Procedures for Products and Parts FAR 21. 14 CFR part 21 prescribes certification procedures for aircraft, aircraft engines, propellers, products and parts. The information collected is used to determine compliance and applicant eligibility. The respondents are aircraft parts designers, manufacturers, and aircraft owners. The current estimated annual reporting burden is 44,101 hours.

2. 2120-0022, Certificate: Mechanics, Repairmen, Parachute Riggers, and Inspection Authorizations—FAR Part 65. Title 49 U.S.C. sections 44702 and 44703 authorize the issuance of airman certificates. FAR part 65 prescribes requirements for mechanics, repairmen, parachute riggers, and inspection authorizations. The information collected shows applicant eligibility for certification. The current estimated annual reporting burden is 34,432 hours.

3. 2120-0056, Report of Inspections Required by Airworthiness Directives, 14 CFR Part 39. Airworthiness directives are regulations issued to require action to correct unsafe conditions in aircraft, engines, propellers, and appliances. Reports of inspections are often needed when emergency corrective action is taken to determine if the action was adequate for the unsafe condition. The respondents are aircraft owners and operators. The current estimated annual reporting burden is 2,144 hours.

4. 2120-0067, Air Taxi and Commercial Operator Activity Survey. Enplanement data collected from air taxi and commercial operators are required for the calculation of air carrier sponsor apportionments as specified by the Airport Improvement Program (AIP), and 49 U.S.C. part A Air Commerce Safety, and part B, Airport Development and Noise. The current estimated annual reporting burden is 750 hours.

5. 2120-0508, Fuel Venting and Exhaust Emission Requirements for Turbine Engine Powered Airplanes. Date of manufacture and compliance status stamped on the nameplate of each turbojet engine permit rapid determination by FAA inspectors, owners, and operators whether an engine can be legally installed and operated on an aircraft within the United States. The current estimated annual reporting burden is 100 hours.

6. 2120-0569, Airports Grants Program. The FAA collects data from airport sponsors and planning agencies in order to administer the Airports Grants Program. Data is used to determine eligibility, ensure proper use of Federal finds and ensure project accomplishments. The current estimated annual reporting burden is 67,714 hours.

7. 2120-0631, Terrain Awareness and Warning System (TAWS). This rule mandates that all turbine powered airplanes of 6 or more passenger seating carry a Terrain Awareness and Warning System (TAWS). TAWS is a passive, electronic safety device located in the airplane's avionics bay. TAWS alerts pilots when there is terrain the airplane's flight path. Since this is a 100% passive and electronic collection, the estimated annual hourly reporting burden is estimated at the minimum of 1 hour.

Issued in Washington, DC on March 2, 2004.
Judith D. Street,
FAA Information Collection Clearance Officer, APF-100.

[FR Doc. 04-5151 Filed 3-5-04; 8:45 am]

BILLING CODE 4910-13-M